DEPARTMENT OF TRANSPORTATION

Federal Aviation Administration

14 CFR Part 73

[Docket No. FAA-2019-0223; Airspace Docket No. 19-ASO-4]

RIN 2120-AA66

Amendment of Restricted Area R-2101; Anniston Army Depot, AL

AGENCY: Federal Aviation Administration (FAA), DOT.

ACTION: Final rule.

SUMMARY: This action updates the controlling agency information for restricted area R-2101, Anniston Army Depot, AL. This is an administrative change to reflect the current air traffic control (ATC) facility tasked with controlling agency responsibilities for the restricted area. It does not affect the boundaries, designated altitudes, time of designation, or activities conducted within restricted area R-2101.

DATES: Effective date: 0901 UTC, June 20, 2019.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the controlling agency for restricted area R-2101 to update the controlling agency for the airspace.

The Rule

This rule amends Title 14 Code of Federal Regulations (14 CFR) part 73 by updating the controlling agency name for restricted area R-2101. R-2101 extends from the surface to 5,000 feet MSL, and is wholly contained within the confines of the airspace delegated to the Birmingham Airport Traffic Control Tower (ATCT). The controlling agency for R-2101 is changed from “FAA, Atlanta ARTCC,” to “FAA, Birmingham ATCT.” This action is necessary in order to reflect the current ATC facility tasked with controlling agency responsibilities for the restricted area.

This is an administrative change that does not affect the overall R-2101 restricted area boundaries, designated altitudes, time of designation, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of updating the controlling agency information for R-2101, Anniston Army Depot, AL, qualifies for categorical exclusion under the National Environmental Policy Act, and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the description of restricted area R-2101; Anniston Army Depot, AL, to update the controlling agency name. It does not alter the restricted area dimensions, designated altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

The Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.21 Alabama [Amended]

2. § 73.21 is amended as follows:

R-2101 Anniston Army Depot, AL [Amended]

By removing the current controlling agency and adding the following in its place: Controlling agency. FAA, Birmingham ATCT.

Issued in Washington, DC, on April 8, 2019.
Rodger A. Dean Jr.,
Manager, Airspace Policy Group.

[FR Doc. 2019-07596 Filed 4-16-19; 8:45 am]

BILLING CODE 4910-13-P